Proclamation 9616 of May 19, 2017

National Maritime Day, 2017

By the President of the United States of America

A Proclamation

On National Maritime Day, we recognize the important role the United States Merchant Marine plays in supporting our commerce and national security. We honor the proud history of our merchant mariners and their important contributions in strengthening our economy.

Americans have long looked to the sea as a source of safety and well-being. Bounded by two oceans and the Gulf of Mexico, and crisscrossed by inland waterways, America was destined to be a maritime nation. Our fledgling Republic expanded and became stronger, as our Nation's growing Merchant Marine connected the States and cemented ties among our new allies.

Today, the men and women who crew ships remain essential to our Nation's prosperity and security. Those in the maritime industry, including merchant mariners, promote our economic growth, facilitating the export of more than $475 billion in goods just last year and sustaining our critical defense industrial base. Merchant mariners also actively protect our homeland, serving as our eyes and ears on the seas. They serve with distinction and courage, heading into war zones, and too often sacrificing their own lives for our protection.

The Congress, by a joint resolution approved May 20, 1933, has designated May 22 of each year as “National Maritime Day,” to commemorate the first transoceanic voyage by a steamship, in 1819 by the S.S. Savannah. By this resolution, the Congress has authorized and requested the President to issue annually a proclamation calling for its appropriate observance.

NOW, THEREFORE, I, Donald J. Trump, President of the United States of America, do hereby proclaim May 22, 2017, as National Maritime Day. I call upon the people of the United States to mark this observance and to display the flag of the United States at their homes and in their communities. I also request that all ships sailing under the American flag dress ship on that day.

IN WITNESS WHEREOF, I have hereunto set my hand this nineteenth day of May, in the year of our Lord two thousand seventeen, and of the Independence of the United States of America the two hundred and forty-first.

[FR Doc. 2017-10851

Filed 5-23-17; 11:15 am]

Billing code 3295-F7-P